DEPARTMENT OF COMMERCE

International Trade Administration

[A-570-028]

Hydrofluorocarbon Blends From the People's Republic of China: Final Results of the Antidumping Duty Administrative Review and Final Determination of No Shipments; 2016-2017

AGENCY: Enforcement and Compliance, International Trade Administration, Department of Commerce.

SUMMARY: The Department of Commerce (Commerce) determines that T.T. International Co., Ltd. (TTI) sold hydrofluorocarbon blends (HFCs) from the People's Republic of China (China) at less than normal value (NV) during the period of review (POR), February 1, 2016, through July 31, 2017.

DATES: Applicable April 25, 2019.

FOR FURTHER INFORMATION CONTACT: Andrew Medley or Manuel Rey, AD/CVD Operations, Office II, Enforcement and Compliance, International Trade Administration, U.S. Department of Commerce, 1401 Constitution Avenue NW, Washington, DC 20230; telephone: (202) 482-4987 or (202) 482-5518, respectively.

SUPPLEMENTARY INFORMATION:

Background

Commerce published the Preliminary Results on September 11, 2018.¹ For events subsequent to the Preliminary Results, see Commerce's Issues and Decision Memorandum.² On December 17, 2018, in accordance with section 751(a)(3)(A) of the Tariff Act of 1930, as amended (the Act), Commerce extended the deadline for issuing the final results until March 11, 2019.³ Further, Commerce exercised its discretion to toll all deadlines affected by the partial Federal government closure from December 22, 2018, through the resumption of operations on January 29, 2019.⁴ Therefore, the revised deadline for the final results is now April 19, 2019.

¹ See Hydrofluorocarbon Blends from the People's Republic of China: Preliminary Results of the Antidumping Duty Administrative Review and Preliminary Determination of No Shipments; 2016-2017, 83 FR 45890 (September 11, 2018) (Preliminary Results) and accompanying Preliminary Decision Memorandum (PDM).

² See Memorandum, “Issues and Decision Memorandum for the Antidumping Duty Administrative Review: Hydrofluorocarbon Blends from the People's Republic of China; 2016-2017,” dated concurrently with, and hereby adopted by, this notice (Issues and Decision Memorandum).

³ See Memorandum, “Hydrofluorocarbon Blends from the People's Republic of China: Extension of Deadline for the Final Results of Antidumping Duty Administrative Review,” dated December 17, 2018.

⁴ See Memorandum, “Deadlines Affected by the Partial Shutdown of the Federal Government,” dated January 28, 2019. All deadlines in this segment of the proceeding have been extended by 40 days.

Scope of the Order

The products subject to this order are HFC blends. HFC blends covered by the scope are R-404A, a zeotropic mixture consisting of 52 percent 1,1,1 Trifluoroethane, 44 percent Pentafluoroethane, and 4 percent 1,1,1,2-Tetrafluoroethane; R-407A, a zeotropic mixture of 20 percent Difluoromethane, 40 percent Pentafluoroethane, and 40 percent 1,1,1,2-Tetrafluoroethane; R-407C, a zeotropic mixture of 23 percent Difluoromethane, 25 percent Pentafluoroethane, and 52 percent 1,1,1,2-Tetrafluoroethane; R-410A, a zeotropic mixture of 50 percent Difluoromethane and 50 percent Pentafluoroethane; and R-507A, an azeotropic mixture of 50 percent Pentafluoroethane and 50 percent 1,1,1-Trifluoroethane also known as R-507. The foregoing percentages are nominal percentages by weight. Actual percentages of single component refrigerants by weight may vary by plus or minus two percent points from the nominal percentage identified above.⁵

⁵ For a complete description of the scope of the order, see Issues and Decision Memorandum issued concurrently with, and hereby adopted by, this notice.

Analysis of Comments Received

In the Issues and Decision Memorandum, we addressed all issues raised in parties' case and rebuttal briefs. Appendix I to this notice provides a list of the issues raised by parties. The Issues and Decision Memorandum is a public document and is on file electronically via Enforcement and Compliance's Antidumping and Countervailing Duty Centralized Electronic Service System (ACCESS). ACCESS is available to registered users at https://access.trade.gov and is available to all parties in the Central Records Unit, Room B8024 of the main Department of Commerce building. In addition, a complete version of the Issues and Decision Memorandum can be accessed directly at http://enforcement.trade.gov/frn/index.html. The signed Issues and Decision Memorandum and the electronic version of the Issues and Decision Memorandum are identical in content.

Changes Since the Preliminary Results

Based on our review of the record and comments received from interested parties regarding our Preliminary Results, we made certain revisions to the margin calculations for TTI,⁶ and to the rate assigned to the non-examined respondents receiving a separate rate.⁷

⁶ See Memorandum “Calculation Memorandum for the Final Results of the Administrative Review of Hydrofluorocarbon Blends from the People's Republic of China Memo for TTI International Co., Ltd.,” dated concurrently with this notice.

⁷ See Issues and Decision Memorandum for a summary of these revisions.

Separate Rates Respondents

In the Preliminary Results, we determined that TTI and three other companies demonstrated their eligibility for separate rates. We received no comments since the issuance of the Preliminary Results that provide a basis for reconsideration of these determinations.⁸ Therefore, for these final results, we continue to find that the companies listed in the table in the “Final Results” section of this notice are eligible for separate rates.

⁸ We note, however, that we made a ministerial error when identifying the name of one of these companies in the Preliminary Results. For further discussion, see the Issues and Decision Memorandum at Comment 1.

Further, we determined in the Preliminary Results that six companies failed to demonstrate an absence of de facto government control; and, thus, Commerce did not grant them separate rates.⁹ No party provided comments with respect to any of these six companies, and, thus, we continue to find that these six companies are not eligible for separate rates.

⁹ These companies are: (1) Arkema Daikin Advanced Fluorochemicals (Changsu) Co., Ltd. (Arkema); (2) Dongyang Weihua Refrigerants Co., Ltd. (Dongyang Weihua); (3) Sinochem Environmental Protection Chemicals (Taicang) Co., Ltd. (Sinochem Taicang); (4) Weitron International Refrigeration Equipment (Kunshan) Co., Ltd. (Weitron); (5) Zhejiang Lantian Environmental Protection Fluoro Material Co. Ltd. (Zhejiang Lantian); and (6) Zhejiang Quzhou Lianzhou Refrigerants Co., Ltd. (Zhejiang Quzhou).

Rate for Non-Examined Separate-Rate Respondents

The statute and our regulations do not address the rate to be assigned to respondents not selected for individual examination when we limit our examination of companies subject to the administrative review pursuant to section 777A(c)(2)(B) of the Act. Generally, we look to section 735(c)(5) of the Act, which provides instructions for calculating the all-others rate in an investigation, for guidance when calculating the rate for respondents not individually examined in an administrative review. Section 735(c)(5)(A) of the Act articulates a preference for not calculating an all-others rate using rates which are zero, de minimis, or based entirely on facts available.¹⁰ Accordingly, we generally will determine the dumping margin for companies not individually examined by averaging the weighted-average dumping margins for the individually examined respondents, excluding rates that are zero, de minimis, or based entirely on facts available.¹¹

¹⁰ See Ball Bearings and Parts Thereof from France, Germany, Italy, Japan, and the United Kingdom: Final Results of Antidumping Duty Administrative Reviews and Rescission of Reviews in Part, 73 FR 52823, 52824 (September 11, 2008), and accompanying Issues and Decision Memorandum at Comment 16.

¹¹ See, e.g., Preliminary Determination of Sales at Less Than Fair Value and Partial Affirmative Determination of Critical Circumstances: Certain Polyester Staple Fiber from the People's Republic of China, 71 FR 77373, 77377 (December 26, 2006), unchanged in Final Determination of Sales at Less Than Fair Value and Partial Affirmative Determination of Critical Circumstances: Certain Polyester Staple Fiber from the People's Republic of China, 72 FR 19690 (April 19, 2007).

For the final results, we calculated a rate only for TTI. Therefore, for these final results, following the practice described above, we have assigned the rate calculated for TTI to the companies that have not been individually examined but have demonstrated their eligibility for a separate rate.

Final Determination of No Shipments

In the Preliminary Results, Commerce determined that Daikin Fluorochemicals (China) Co., Ltd. (Daikin) and Zhejiang Yonghe Refrigerant Co., Ltd. (Zhejiang Yonghe) ¹² had no shipments of subject merchandise during the POR. As we have not received any information to contradict our preliminary findings, we determine that Daikin and Zhejiang Yonghe had no shipments of subject merchandise during the POR, and we intend to issue appropriate instructions to U.S. Customs and Border Protection (CBP) that are consistent with our “automatic assessment” clarification for these final results of review.

¹² In the Preliminary Results, Commerce inadvertently identified this company as Jinhua Yonghe Fluorochemical Co., Ltd. For further discussion, see the Issues and Decision Memorandum at Comment 1.

Final Results of the Administrative Review

Because Arkema, Dongyang Weihua, Sinochem Taicang, Weitron, Zhejiang Lantian, and Zhejiang Quzhou did not demonstrate that they are entitled to a separate rate, Commerce finds these six companies to be part of the China-wide entity. Because no party requested a review of the China-wide entity, and Commerce no longer considers the China-wide entity as an exporter conditionally subject to administrative reviews,¹³ we did not conduct a review of the China-wide entity. The rate previously established for the China-wide entity is 216.37 percent ¹⁴ and is not subject to change as a result of this review.

¹³ See Antidumping Proceedings: Announcement of Change in Department Practice for Respondent Selection in Antidumping Duty Proceedings and Conditional Review of the Nonmarket Economy Entity (NME) in NME Antidumping Duty Proceedings, 78 FR 65963, 65970 (November 4, 2013).

¹⁴ See Hydrofluorocarbon Blends and Components Thereof from the People's Republic of China: Antidumping Duty Order, 81 FR 55436, 55438 (August 19, 2016).

For companies subject to this review and established their eligibility for a separate rate, Commerce determines that the following weighted-average dumping margins exist for the period February 1, 2016, through July 31, 2017:

Exporter | Weighted- average dumping margin (percent)
T.T. International Co., Ltd | 285.73
Shandong Huaan New Material Co., Ltd * | 285.73
Zhejiang Sanmei Chemical Industry Co. Ltd * | 285.73
Jinhua Yonghe Fluorochemical Co., Ltd * | 285.73
* This company was not selected as a mandatory respondent but is subject to this administrative review and demonstrated that it qualified for a separate rate during the POR.

Assessment Rates

Pursuant to section 751(a)(2)(C) of the Act, and 19 CFR 351.212(b)(1), Commerce has determined, and U.S. Customs and Border Protection (CBP) shall assess, antidumping duties on all appropriate entries covered by this review. Commerce intends to issue assessment instructions to CBP 15 days after the date of publication of these final results of review.

For TTI, we calculated importer-specific ad valorem duty assessment rates based on the ratio of the total amount of dumping calculated for the importer's examined sales to the total entered value of those sales, in accordance with 19 CFR 351.212(b)(1). Where an importer- (or customer-) specific assessment rate is zero or de minimis, we will instruct CBP to liquidate the appropriate entries without regard to antidumping duties.¹⁵

¹⁵ See 19 CFR 351.106(c)(2).

Pursuant to Commerce's assessment practice, for entries that were not reported in the U.S. sales data submitted by TTI, we will instruct CBP to liquidate such entries at the China-wide rate.¹⁶ Similarly, because Commerce determined that Daikin and Zhejiang Yonghe had no shipments of the subject merchandise, any suspended entries of subject merchandise from Daikin and Zhejiang Yonghe will also be liquidated at the China-wide rate.¹⁷

¹⁶ See Non-Market Economy Antidumping Proceedings: Assessment of Antidumping Duties, 76 FR 65694 (October 24, 2011).

¹⁷ Id.

For the respondents which were not selected for individual examination in this administrative review and which qualified for a separate rate, the assessment rate will be equal to the weighted-average dumping margin determined for TTI in the final results of this administrative review.

For the companies found to be part of the China-wide entity, because Commerce determined that these companies did not qualify for a separate rate, we will instruct CBP to assess dumping duties on the companies' entries of subject merchandise at the rate of 216.37 percent.

Cash Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be equal to the weighted-average dumping margin established in the final results of this review; (2) for previously investigated or reviewed China and non-China exporters not listed above that currently have a separate rate, the cash deposit rate will continue to be the exporter-specific rate published for the most recently completed segment of this proceeding where the exporter received that separate rate; (3) for all China exporters of subject merchandise that have not been found to be entitled to a separate rate, the cash deposit rate will be the rate for the China-wide entity, 216.37 percent; and (4) for all non-China exporters of subject merchandise which have not received their own separate rate, the cash deposit rate will be the rate applicable to the China exporter that supplied that non-China exporter. These deposit requirements, when imposed, shall remain in effect until further notice.

Disclosure

We intend to disclose the calculations performed to parties in this proceeding within five days of the date of publication of this notice, in accordance with 19 CFR 351.224(b).

Notifications to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notifications to Interested Parties

This notice serves as the only reminder to parties subject to administrative protective order (APO) of their responsibility concerning the disposition of proprietary information disclosed under APO in accordance with 19 CFR 351.305(a)(3). Timely written notification of return or destruction of APO materials, or conversion to judicial protective order, is hereby requested. Failure to comply with the regulations and the terms of an APO is a sanctionable violation.

We are issuing and publishing these results of review in accordance with sections 751(a)(1) and 777(i)(1) of the Act.

Dated: April 19, 2019.
Jeffrey I. Kessler,
Assistant Secretary for Antidumping and Countervailing Duty Operations.

Appendix I

List of Topics Discussed in the Issues and Decision Memorandum

Summary

Background

Scope of the Order

Changes Since the Preliminary Results

Discussion of the Issues

Comment 1: Ministerial Error

Comment 2: The Margin Assigned to TTI

Comment 3: Selection of Separate Rate for Non-Selected Respondents

Comment 4: Adjusting Global Trade Atlas Import Data for Movement Expenses

Comment 5: Surrogate Values (SVs) for R-32 and R-143a

Comment 6: SV for Anhydrous Hydrogen Fluoride

Comment 7: Surrogate Financial Statements

Recommendation

[FR Doc. 2019-08348 Filed 4-24-19; 8:45 am]

BILLING CODE 3510-DS-P